DEPARTMENT OF STATE

[Public Notice: 7672]

Bureau of Educational and Cultural Affairs (ECA) Request for Grant Proposals: Study of the U.S. Institutes for Women Student Leaders on Women's Leadership

Announcement Type: New Cooperative Agreements.

Funding Opportunity Number: ECA/A/E/USS-12-22-23.

Catalog of Federal Domestic Assistance Number: 19.009.

Key Dates: May to August, 2012.

Application Deadline: December 30, 2011.

Executive Summary

The Branch for the Study of the United States, Office of Academic Exchange Programs, Bureau of Educational and Cultural Affairs, invites proposal submissions from accredited U.S. colleges and universities for the design and implementation of two (2) Study of the United States Institutes for Women Student Leaders on Women's Leadership. Applicants may submit a proposal to administer one institute. The five week Institutes should take place in June and July, 2012.

Both Institutes should take place at U.S. academic institutions and provide groups of highly motivated female undergraduate students from the countries and regions noted below with in-depth seminars on Women's Leadership. Each Institute should include four weeks of academic residency followed by a one-week integrated educational travel tour that will expose participants to a different region of the United States. The one-week educational study tour should continue to examine the theme of women's leadership and should conclude with a three day session in Washington, DC. In order to take part in a joint closing conference, the participants should travel to Washington, DC no later than the evening of July 18, 2012.

Each Institute will host up to 20 participants, for a total of approximately 40 students. ECA plans to provide two awards (a maximum of one per applicant) for the administration of two Study of the U.S. Institutes and welcomes applications from accredited post-secondary education institutions in the United States (see Eligibility Information, section III). Women's colleges are especially encouraged to apply. The awarding of Cooperative Agreements for this program is contingent upon the availability of FY 2012 funds.

I. Funding Opportunity Description

I.1. Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

I.2. Purpose

The Study of the U.S. Institutes for Student Leaders are intensive academic programs whose purpose is to provide groups of foreign undergraduate students with a deeper understanding of the United States while also enhancing their leadership skills. The Institutes also expose Americans to the diverse cultures and traditions of the exchange participants.

The Institutes on Women's Leadership aim to provide undergraduate women leaders an introduction to women's leadership in the United States, while strengthening their leadership skills and heightening their awareness of U.S. and global women's issues. The Institutes should examine the history and evolution of U.S. society, culture, values, and institutions, with particular emphasis on women's roles throughout U.S. history. The Institutes should also incorporate a focus on contemporary American life and contemporary women, including the role of women in political, social, and economic issues and debates. The Institutes should address the influence of principles and values such as democracy, the rule of law, individual rights, freedom of expression, equality, diversity, and tolerance on the empowerment of women in the United States.

I.3. Overview

These two Study of the U.S. Institutes for Women Student Leaders on Women's Leadership will be implemented in the context of the “Women in Public Service Project” announced by Secretary of State Hillary Clinton in March, 2011. Secretary of State Clinton stated that this project would “promote the next generation of women leaders who will invest in their countries and communities, provide leadership for their governments and societies, and help change the way global solutions are developed.” The Women in Public Policy initiative aims to identify and empower a new generation of women to seek and attain leadership roles in democratic governments and civil society around the world. The Study of the U.S. Institutes for Women Student Leaders on Women's Leadership will support this initiative.

The Study of the U.S. Institute for Women Student Leaders on Women's Leadership should examine the history and participation of women in public life in the United States. The Institute should focus on two major areas: (1) Developing participants' leadership skills in areas such as critical thinking, communication, decision-making, and managerial abilities; and (2) placing these abilities in the context of the history and participation of women in U.S. politics, economics, culture, and society. The Institute should examine the historical domestic progress towards women's equality in the United States, the current domestic successes and challenges to women in a variety of fields, and current challenges in global women's issues.

In addition to promoting a better understanding of women's leadership in the United States, an important objective of the Institutes is to develop the participants' own leadership skills. In this context, the academic program should include group discussions, trainings, and exercises that focus on topics such as leadership, team and consensus building, networking, collective problem solving skills, effective communication and public speaking, and management skills. Institutes should include a community service component in which the participants experience firsthand how not-for-profit organizations and volunteerism play a key role in American civil society and offer unique opportunities for women's empowerment.

Local site visits and educational travel should provide opportunities to observe varied aspects of American life and to further explore the evolving roles of women in American society, especially the roles they play in local, state, and national government. The program should also include opportunities for participants to meet U.S. citizens from a variety of backgrounds, to interact with their American peers, and to meet with appropriate women student and civic groups to share information about their experiences and the role of women in their home countries.

The Institutes should begin on or around June 16, 2012 and conclude in Washington, DC with participants arriving in Washington, DC no later than the evening of July 18, 2012. Recipients should agree to collaborate with the Department of State and any other recipients to plan and implement a concluding conference in Washington, DC

I.4. Recipient(s)

ECA is seeking detailed proposals from U.S. colleges and universities. Applicants may apply to host one Institute. Women's colleges are especially encouraged to apply. See III.1 for eligibility requirements.

I.5. Participants

Participants will be identified and nominated by the U.S. Embassies and Consulates and/or Fulbright Commissions with final selection made by ECA. ECA will make the final decisions regarding participating countries. All of the participants in these programs will be female.

Participants in the Study of the U.S. Institutes for Women Student Leaders will be highly motivated undergraduate students from colleges, universities, and other institutions of higher education in selected countries overseas who demonstrate achievement and leadership through academic study, community involvement, and extracurricular activities. Their academic fields of study will be varied, and may include sciences, social sciences, arts and humanities, education, and business. All participants will have a good knowledge of English and will have demonstrated interest in leadership and women's empowerment.

Every effort will be made to recruit participants who are from non-elite or underprivileged backgrounds, are from both rural and urban areas, and have had little or no prior experience in the United States or elsewhere outside of their home country.

We anticipate that participants will be drawn from the following regions and countries:

(1) Sub-Saharan Africa (countries include Angola, Liberia, Mozambique, Sierra Leone, and South Sudan).

(2) North Africa/Middle East and East Asia (countries include Burma, Egypt, Libya, Mongolia, and Tunisia).

ECA reserves the right to adjust the regions and countries participating in these institutes based on Department priorities.

I.6. Program Guidelines

It is essential that proposals provide a detailed and comprehensive narrative describing the objectives of the Institute; the title, scope, and content of each session; planned site visits; and how each session relates to the overall Institute theme. Proposals must include a syllabus that indicates the subject matter for each lecture, panel discussion, group presentation, or other activity. The syllabus also should confirm or provisionally identify proposed speakers, trainers, and session leaders, and clearly show how assigned readings will advance the goals of each session. Overall, proposals will be reviewed on the basis of their responsiveness to RFGP criteria, coherence, clarity, and attention to detail. The accompanying Project Objectives, Goals, and Implementation (POGI) document provides program-specific guidelines that all proposals must address fully.

Please note: In a Cooperative Agreement, the Branch for the Study of the United States is substantially involved in program activities above and beyond routine grant monitoring. The Branch will assume responsibilities for the Institute as indicated in the Program Objectives, Goals, and Implementation (POGI) document. The Branch may request that the recipient(s) make modifications to the academic residency and/or educational travel components of the program. The recipient(s) will be required to obtain approval of significant program changes in advance of their implementation.

II. Award Information

Type of Award: Cooperative Agreement. ECA's level of involvement in this program is listed under number I above.

Fiscal Year Funds: FY 2012.

Approximate Total Funding: $480,000.

Approximate Number of Awards: Two.

Approximate Average Award: $240,000.

Ceiling of Award Range: $240,000.

Anticipated Award Date: Pending availability of funds, April 1, 2012.

Anticipated Project Completion Date: September 30, 2013.

Additional Information: Pending successful implementation of this program and the availability of funds in subsequent fiscal years, ECA may choose to renew this Cooperative Agreement for up to two additional fiscal years, before openly competing it again.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, ECA encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal Government. Such records are subject to audit. The basis for determining the value of cash and in-kind contributions must be in accordance with OMB Circular A-110, (Revised), Subpart C.23—Cost Sharing and Matching.

In the event you do not provide the minimum amount of cost sharing as stipulated in the approved budget, ECA's contribution will be reduced in like proportion.

III.3. Other Eligibility Requirements

(a.) ECA grant guidelines require that organizations with less than four years experience in conducting international exchanges be limited to $60,000 in ECA funding. ECA anticipates making awards up to $240,000 per institute to support program and administrative costs required to implement this exchange program. Therefore, organizations with less than four years experience in conducting international exchanges are ineligible to apply under this competition. ECA encourages applicants to provide maximum levels of cost sharing and funding in support of its programs.

(b.) Technical Eligibility: It is ECA's intent to fund a total of two (2) Institutes as a result of this solicitation.

All applicants are strongly encouraged to read this RFGP thoroughly, prior to developing and submitting a proposal, to ensure that proposed activities are appropriate and responsive to the goals, objectives, and criteria outlined in the solicitation.

Total available funding is up to $240,000 per Institute for a total of $480,000. Applicant organizations are invited to submit one proposal to host only one Institute. Eligible applicants may not submit more than one proposal in this competition.

The proposal should clearly indicate the desired country group from Section I.5 above if appropriate and any regional expertise, if applicable. ECA reserves the right to alter or reassign the final country groupings.

IV. Application and Submission Information

Note: Please read the complete announcement before sending inquiries or submitting proposals. Once the RFGP deadline has passed, ECA staff may not discuss this competition with applicants until the proposal review process has been completed. If you have questions prior to the RFGP deadline, please address your questions to Elizabeth J. Latham, Program Officer in the Branch of the Study of the United States, at LathamEJ@state.gov or (202) 632-3338.

IV.1. Contact Information To Request an Application Package

Please contact the Branch for the Study of the United States, ECA/A/E/USS; SA-5, Fourth Floor; U.S. Department of State; Washington, DC 20037, (202) 632-3338 to request a Solicitation Package. Please refer to the Funding Opportunity Number ECA/A/E/USS-12-22-23 located at the top of this announcement when making your request.

Alternatively, an electronic application package may be obtained from grants.gov. Please see section IV.3f for further information.

The Solicitation Package contains the Proposal Submission Instruction (PSI) document which consists of required application forms, and standard guidelines for proposal preparation.

It also contains the Project Objectives, Goals, and Implementation (POGI) document, which provides specific information, award criteria, and budget instructions tailored to this competition.

Please specify Elizabeth J. Latham and refer to the Funding Opportunity Number (ECA/A/E/USS-12-22-23) located at the top of this announcement on all other inquiries and correspondence.

IV.2. To Download a Solicitation Package Via Internet

The entire Solicitation Package may be downloaded from ECA's Web site at http://exchanges.state.gov/grants/open2.html, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-(866) 705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. All Federal award recipients and sub-recipients must maintain current registrations in the Central Contractor Registration (CCR) database and have a Dun and Bradstreet Data Universal Numbering System (DUNS) number. Recipients and sub-recipients must maintain accurate and up-to-date information in the CCR until all program and financial activity and reporting have been completed. All entities must review and update the information at least annually after the initial registration and more frequently if required information changes or another award is granted.

You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one-page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Bureau of Educational and Cultural Affairs places emphases on the security and proper administration of the Exchange Visitor (J visa) Programs and adherence by award recipients and sponsors to all regulations governing the J visa. Therefore, proposals should demonstrate the applicant's capacity to meet all requirements governing the administration of the Exchange Visitor Programs as set forth in 22 CFR part 62, including provision of pre-arrival information and orientation to participants, monitoring of participants, proper maintenance and security of forms, record-keeping, reporting and other requirements.

ECA will be responsible for the oversight of Responsible Officers and Alternate Responsible Officers, screening and selection of program participants, and issuing DS-2019 forms to participants in this program.

A copy of the complete regulations governing the administration of Exchange Visitor (J) programs is available at http://exchanges.state.gov or from: Office of Designation, Private Sector Programs Division, U.S. Department of State, ECA/EC/D/PS, SA-5, 5th Floor, 2200 C Street NW., Washington, DC 20037.

Please refer to Solicitation Package for further information.

IV.3d.2 Diversity, Freedom and Democracy Guidelines

Pursuant to ECA's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the `Support for Diversity' section for specific suggestions on incorporating diversity into your proposal. Public Law 104-319 provides that “in carrying out programs of educational and cultural exchange in countries whose people do not fully enjoy freedom and democracy,” ECA “shall take appropriate steps to provide opportunities for participation in such programs to human rights and democracy leaders of such countries.” Public Law 106-113 requires that the governments of the countries described above do not have inappropriate influence in the selection process. Proposals should reflect advancement of these goals in their program contents, to the full extent deemed feasible.

IV.3d.3 Program Monitoring and Evaluation

Proposals must include a plan to monitor and evaluate the project's success, both as the activities unfold and at the end of the program. ECA recommends that your proposal include a draft survey questionnaire or other technique plus a description of a methodology to use to link outcomes to original project objectives. ECA expects that recipients will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipients will be required to provide reports analyzing their evaluation findings to ECA in their regular program reports. All data collected, including survey responses and contact information, must be maintained for a minimum of three years and provided to ECA upon request.

IV.3e. Budget

IV.3e.1. Applicants must submit SF-424A—“Budget Information—Non-Construction Programs” along with a comprehensive budget for the entire program. There must be a summary budget as well as breakdowns reflecting both administrative and program budgets. Applicants may provide separate sub-budgets for each program component, phase, location, or activity to provide clarification. Budget requests for the institutes may not exceed $240,000 per institute, and administrative costs should be no more than $80,000 per institute.

IV.3e.2. Allowable costs for the program include the following:

(1) Institute staff salary and benefits;

(2) Participant housing and meals;

(3) Participant U.S. travel and per diem;

(4) Textbooks, educational materials, and admissions fees;

(5) Honoraria for guest speakers;

(6) Washington, DC closing conference expenses;

(7) Follow-on programming for alumni of Study of the United States programs.

Please refer to the Solicitation Package for complete budget guidelines and formatting instructions.

IV.3f. Application Deadline and Methods of Submission

Application Deadline Date: December 30, 2011

Reference Number: ECA/A/E/USS-12-22-23

Methods of Submission: Applications may be submitted in one of two ways:

(1.) In hard-copy, via a nationally recognized overnight delivery service (i.e., Federal Express, UPS, Airborne Express, or U.S. Postal Service Express Overnight Mail, etc.), or

(2.) electronically through http://www.grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and six (6) copies of the application should be sent to: Program Management Division, ECA-IIP/EX/PM, Ref.: ECA/A/E/USS-12-22-23, SA-5, Floor 4, Department of State, 2200 C Street NW., Washington, DC 20037.

Applicants submitting hard-copy applications must also submit the “Executive Summary” and “Proposal Narrative” sections of the proposal in text (.txt) or Microsoft Word format on CD-ROM.

IV.3f.2 Submitting Electronic Applications

Applicants have the option of submitting proposals electronically through Grants.gov (http://www.grants.gov). Complete solicitation packages are available at Grants.gov in the “Find” portion of the system.

Please Note: ECA bears no responsibility for applicant timeliness of submission or data errors resulting from transmission or conversion processes for proposals submitted via Grants.gov.

Please follow the instructions available in the ‘Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your Internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support, Contact Center Phone: (800) 518-4726, Business Hours: Monday-Friday, 7 a.m.-9 p.m. Eastern Time, Email: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation email from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications

Executive Order 12372 does not apply to this program.

V. Application Review Information

V.1. Review Process

ECA will review all proposals for technical eligibility. Proposals will be deemed ineligible if they do not fully adhere to the guidelines stated herein and in the Solicitation Package. All eligible proposals will be reviewed by the program office, as well as the Public Diplomacy section overseas, where appropriate. Eligible proposals will be subject to compliance with Federal and ECA regulations and guidelines and forwarded to ECA grant panels for advisory review. Proposals may also be reviewed by the Office of the Legal Adviser or by other Department of State elements. Final funding decisions are at the discretion of the Department of State's Assistant Secretary for Educational and Cultural Affairs. Final technical authority for cooperative agreements resides with ECA's Grants Officer.

Review Criteria

Technically eligible applications will be competitively reviewed according to the criteria stated below. These criteria are not rank ordered and all carry equal weight in the proposal evaluation:

1. Quality of Program Plan and Ability to Achieve Program Objectives: Proposals should exhibit originality, substance, precision, and relevance to ECA's mission. A detailed agenda and relevant work plan should demonstrate substantive undertakings and logistical capacity. Objectives should be reasonable, feasible, and flexible. Proposals should demonstrate clearly how the institution will meet the program's objectives and plan.

2. Support for Diversity: Proposals should demonstrate substantive support of ECA's policy on diversity. Achievable and relevant features should be cited in both program administration (program venue and program evaluation) and program content (orientation and wrap-up sessions, program meetings, presenters, and resource materials).

3. Evaluation: Proposals should include a plan to evaluate the activity's success, both as the activities unfold and at the end of the program. ECA recommends that the proposal include a draft survey questionnaire or other technique plus a description of a methodology to use to link outcomes to original project objectives.

4. Cost-effectiveness/Cost-sharing: The overhead and administrative components of the proposal, including salaries and honoraria, should be kept as low as possible. All other items should be necessary and appropriate. Proposals should maximize cost-sharing through other private sector support, as well as institutional direct funding contributions.

5. Institutional Track Record/Ability: Proposals should demonstrate an institutional record of successful exchange programs, including responsible fiscal management and full compliance with all reporting requirements for past ECA grants as determined by ECA Grants Staff. ECA will consider the past performance of prior recipients and the demonstrated potential of new applicants. Proposed personnel and institutional resources should be fully qualified to achieve the project's goals.

6. Follow Up and Follow-on Activities: Proposals should discuss provisions made for follow-up with returned participants as a means of establishing longer-term individual and institutional linkages. Proposals should also provide a plan for continued follow-on activity (without ECA support) ensuring that ECA supported programs are not isolated events.

VI. Award Administration Information

VI.1a. Award Notices

Final awards cannot be made until funds have been appropriated by Congress, allocated and committed through internal ECA procedures. Successful applicants will receive a Federal Assistance Award (FAA) from ECA's Grants Office. The FAA and the original proposal with subsequent modifications (if applicable) shall be the only binding authorizing document between the recipient(s) and the U.S. Government. The FAA will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants

http://fa.statebuy.state.gov

VI.3. Reporting Requirements

You must provide ECA with the following mandatory reports:

(1) Interim program reports no more than 30 days after the conclusion of each institute;

(2) Quarterly financial reports;

(3) A final program and financial report no more than 90 days after the expiration of the award;

(4) A concise, one-page final program report summarizing program outcomes no more than 90 days after the expiration of the award. This one-page report will be transmitted to OMB, and be made available to the public via OMB's USAspending.gov Web site—as part of ECA's Federal Funding Accountability and Transparency Act (FFATA) reporting requirements;

(5) A SF-PPR, “Performance Progress Report” Cover Sheet with all program reports.

Award recipients will be required to provide reports analyzing their evaluation findings to ECA in their regular program reports. (Please refer to IV. Application and Submission Instructions (IV.3.d.3) above for Program Monitoring and Evaluation information.

All data collected, including survey responses and contact information, must be maintained for a minimum of three years and provided to ECA upon request.

All reports must be sent to the ECA Grants Officer and ECA Program Officer listed in the final assistance award document.

VII. Agency Contacts

For questions about this announcement, contact: Elizabeth J. Latham, U.S. Department of State, Study of the U.S. Branch, ECA/A/E/USS, SA-5, 4th floor, 2200 C Street NW., Washington, DC 20037, LathamEJ@state.gov, (202) 632-3338.

All correspondence with ECA concerning this RFGP should reference the above title and number ECA/A/E/USS-12-22-23.

Please read the complete announcement before sending inquiries or submitting proposals. Once the RFGP deadline has passed, ECA staff may not discuss this competition with applicants until the proposal review process has been completed.

VIII. Other Information

Notice

The terms and conditions published in this RFGP are binding and may not be modified by any ECA representative. Explanatory information provided by ECA that contradicts published language will not be binding. Issuance of the RFGP does not constitute an award commitment on the part of the Government. ECA reserves the right to reduce, revise, or increase proposal budgets in accordance with the needs of the program and the availability of funds. Awards made will be subject to periodic reporting and evaluation requirements per section VI.3 above.

Dated: October 27, 2011.
J. Adam Ereli,
Principal Deputy Assistant Secretary, Educational and Cultural Affairs, U.S. Department of State.

[FR Doc. 2011-28426 Filed 11-2-11; 8:45 am]

BILLING CODE 4710-05-P